DEPARTMENT OF JUSTICE

Office of Justice Programs

[OJP (OJJDP) Docket No. 1417]

Meeting of the Federal Advisory Committee on Juvenile Justice

AGENCY: Office of Juvenile Justice and Delinquency Prevention, Office of Justice Programs, Justice.

ACTION: Notice of meeting.

SUMMARY: The Office of Juvenile Justice and Delinquency Prevention is announcing the meeting of the Federal Advisory Committee on Juvenile Justice (FACJJ), which will be held in Albuquerque, New Mexico, on May 17-18, 2005. The meeting times and location are noted below.

DATES: The schedule of events is as follows:

1. Tuesday, May 17, 2005

9 a.m.-12 p.m. and 1:30 p.m.-5 p.m. Discussion and Deliberation on FACJJ Recommendations to the President, Congress, and the Administrator of OJJDP (Open Sessions).

12 p.m.-1:30 p.m. Subcommittee meetings (Closed Sessions).

2. Wednesday, May 18, 2005

9 a.m.-12 p.m. Presentations on Indian Country issues and the resources to address them, by the Bureau of Indian Affairs, Indian Health Service, and local residents (Open Sessions).

ADDRESSES: The meeting will take place at the Hilton Albuquerque Hotel, 1901 University Boulevard, NE., Albuquerque, New Mexico, (505) 884-2500.

FOR FURTHER INFORMATION CONTACT: Robert Samuels, Acting Designated Federal Official, OJJDP, Bob.Samuels@usdoj.gov, or (202) 307-1357.

SUPPLEMENTARY INFORMATION: The Federal Advisory Committee on Juvenile Justice (FACJJ), established pursuant to Section 3(2)A of the Federal Advisory Committee Act (5 U.S.C. App. 2) will meet to carry out its advisory functions under section 223(f)(2)(C-E) of the Juvenile Justice and Delinquency Prevention Act of 2002. The FACJJ is composed of one representative from each state and territory. FACJJ duties include: reviewing Federal policies regarding juvenile justice and delinquency prevention; advising the OJJDP Administrator with respect to particular functions and aspects of OJJDP; and advising the President and Congress with regard to State perspectives on the operation of OJJDP and Federal legislation pertaining to juvenile justice and delinquency prevention. More information on FACJJ, including a list of members, may be found at http://www.ojjdp.ncjrs.org/jjac/.

Members of the public who wish to attend open sessions of the meeting should register by sending an e-mail with their name, affiliation, address, phone number, and a list of sessions they plan to attend to JJAC@jjrc.org. If e-mail is not available, please call (301) 519-6473 (Daryel Dunston). (Note: this is not a toll-free number.) Because space is limited, notification should be sent by Monday, May 9, 2005.

Written Comments

Interested parties may submit written comments by Monday, May 9, 2005, to Robert Samuels, Acting Designated Federal Official for the Federal Advisory Committee on Juvenile Justice, OJJDP, at Bob.Samuels@usdoj.gov, or by telephone at (202) 307-1357. (Note: this is not a toll-free number.) No oral presentations will be permitted at the meeting.

Dated: April 20, 2005.
J. Robert Flores,
Administrator, Office of Juvenile Justice and Delinquency Prevention.

[FR Doc. 05-8243 Filed 4-25-05; 8:45 am]

BILLING CODE 4410-18-P